DEPARTMENT OF JUSTICE

Bureau of Alcohol, Tobacco, Firearms, and Explosives

[Docket No. 2014R-25T]

Commerce in Explosives; 2014 Annual List of Explosive Materials

AGENCY: Bureau of Alcohol, Tobacco, Firearms, and Explosives (ATF); Department of Justice.

ACTION: Notice of list of explosive materials.

SUMMARY: Pursuant to 18 U.S.C. 841(d) and 27 CFR 555.23, the Department must publish and revise at least annually in the Federal Register a list of explosives determined to be within the coverage of 18 U.S.C. 841 et seq. The list covers not only explosives, but also blasting agents and detonators, all of which are defined as explosive materials in 18 U.S.C. 841(c). The Department further seeks to clarify that “pyrotechnic fuses” are explosives; and has, therefore, added this term to the List of Explosive Materials. This notice publishes the 2014 Annual List of Explosive Materials.

DATES: The list becomes effective October 7, 2014.

FOR FURTHER INFORMATION CONTACT: Paul Brown, Chief, Explosives Industry Programs Branch; Firearms and Explosives Industry Division; Bureau of Alcohol, Tobacco, Firearms, and Explosives; United States Department of Justice; 99 New York Avenue NE., Washington, DC 20226; 202 648-7120.

SUPPLEMENTARY INFORMATION: The list includes all mixtures containing any of the materials on the list. Materials constituting blasting agents are marked by an asterisk. While the list is comprehensive, it is not all-inclusive. The fact that an explosive material is not on the list does not mean that it is not within the coverage of the law if it otherwise meets the statutory definitions in 18 U.S.C. 841. Explosive materials are listed alphabetically by their common names followed, where applicable, by chemical names and synonyms in brackets.

The Department has added one new term, “Pyrotechnic fuses” that will appear after “Pyrotechnic compositions” on the List of Explosive Materials. The addition of this term will clarify that “pyrotechnic fuses” (e.g. black match, ignition fuse, quick match) that are not otherwise exempt as a component of ammunition or as black powder articles intended for the sporting, recreational, or cultural purposes in antique firearms or devices, are regulated explosive materials regardless of their size or specific energetic composition. The addition of this term will not expand the list to include any materials not already covered under other names. ATF generally classifies pyrotechnic fuse as low explosives subject to the Federal explosives laws and implementing explosives regulations at 27 CFR Part 555—Commerce in Explosives and the U.S. Department of Transportation classifies them as Class 1 explosives. External burning pyrotechnic fuses that are components of small arms ammunition will remain exempt pursuant to 18 U.S.C. 845(a)(4); and safety and pyrotechnic fuses intended only for sporting, recreational, or cultural purposes in antique firearms (as defined in 18 U.S.C. 921(a)(16)), or antique devices, as exempted from the term “destructive devices” in 18 U.S.C. 921(a)(4)), will remain exempt pursuant to 18 U.S.C. 845(a)(5). The Department has not removed any listing since its last publication of the List of Explosive Materials.

This list supersedes the List of Explosive Materials dated October 28, 2013 (Docket No. 2013R-6T, 78 FR 64246).

Notice of the 2014 Annual List of Explosive Materials

Pursuant to 18 U.S.C. 841(d) and 27 CFR 555.23, I hereby designate the following as explosive materials covered under 18 U.S.C. 841(c):

A

Acetylides of heavy metals.

Aluminum containing polymeric propellant.

Aluminum ophorite explosive.

Amatex.

Amatol.

Ammonal.

Ammonium nitrate explosive mixtures (cap sensitive).

*Ammonium nitrate explosive mixtures (non-cap sensitive).

Ammonium perchlorate having particle size less than 15 microns.

Ammonium perchlorate explosive mixtures (excluding ammonium perchlorate composite propellant (APCP)).

Ammonium picrate [picrate of ammonia, Explosive D].

Ammonium salt lattice with isomorphously substituted inorganic salts.

*ANFO [ammonium nitrate-fuel oil].

Aromatic nitro-compound explosive mixtures.

Azide explosives.

B

Baranol.

Baratol.

BEAF [1, 2-bis (2, 2-difluoro-2-nitroacetoxyethane)].

Black powder.

Black powder based explosive mixtures.

Black powder substitutes.

*Blasting agents, nitro-carbo-nitrates, including non-cap sensitive slurry and water gel explosives.

Blasting caps.

Blasting gelatin.

Blasting powder.

BTNEC [bis (trinitroethyl) carbonate].

BTNEN [bis (trinitroethyl) nitramine].

BTTN [1,2,4 butanetriol trinitrate].

Bulk salutes.

Butyl tetryl.

C

Calcium nitrate explosive mixture.

Cellulose hexanitrate explosive mixture.

Chlorate explosive mixtures.

Composition A and variations.

Composition B and variations.

Composition C and variations.

Copper acetylide.

Cyanuric triazide.

Cyclonite [RDX].

Cyclotetramethylenetetranitramine [HMX].

Cyclotol.

Cyclotrimethylenetrinitramine [RDX].

D

DATB [diaminotrinitrobenzene].

DDNP [diazodinitrophenol].

DEGDN [diethyleneglycol dinitrate].

Detonating cord.

Detonators.

Dimethylol dimethyl methane dinitrate composition.

Dinitroethyleneurea.

Dinitroglycerine [glycerol dinitrate].

Dinitrophenol.

Dinitrophenolates.

Dinitrophenyl hydrazine.

Dinitroresorcinol.

Dinitrotoluene-sodium nitrate explosive mixtures.

DIPAM [dipicramide; diaminohexanitrobiphenyl].

Dipicryl sulfone.

Dipicrylamine.

Display fireworks.

DNPA [2,2-dinitropropyl acrylate].

DNPD [dinitropentano nitrile].

Dynamite.

E

EDDN [ethylene diamine dinitrate].

EDNA [ethylenedinitramine].

Ednatol.

EDNP [ethyl 4,4-dinitropentanoate].

EGDN [ethylene glycol dinitrate].

Erythritol tetranitrate explosives.

Esters of nitro-substituted alcohols.

Ethyl-tetryl.

Explosive conitrates.

Explosive gelatins.

Explosive liquids.

Explosive mixtures containing oxygen-releasing inorganic salts and hydrocarbons.

Explosive mixtures containing oxygen-releasing inorganic salts and nitro bodies.

Explosive mixtures containing oxygen-releasing inorganic salts and water insoluble fuels.

Explosive mixtures containing oxygen-releasing inorganic salts and water soluble fuels.

Explosive mixtures containing sensitized nitromethane.

Explosive mixtures containing tetranitromethane (nitroform).

Explosive nitro compounds of aromatic hydrocarbons.

Explosive organic nitrate mixtures.

Explosive powders.

F

Flash powder.

Fulminate of mercury.

Fulminate of silver.

Fulminating gold.

Fulminating mercury.

Fulminating platinum.

Fulminating silver.

G

Gelatinized nitrocellulose.

Gem-dinitro aliphatic explosive mixtures.

Guanyl nitrosamino guanyl tetrazene.

Guanyl nitrosamino guanylidene hydrazine.

Guncotton.

H

Heavy metal azides.

Hexanite.

Hexanitrodiphenylamine.

Hexanitrostilbene.

Hexogen [RDX].

Hexogene or octogene and a nitrated N-methylaniline.

Hexolites.

HMTD [hexamethylenetriperoxidediamine].

HMX [cyclo-1,3,5,7-tetramethylene 2,4,6,8-tetranitramine; Octogen].

Hydrazinium nitrate/hydrazine/aluminum explosive system.

Hydrazoic acid.

I

Igniter cord.

Igniters.

Initiating tube systems.

K

KDNBF [potassium dinitrobenzo-furoxane].

L

Lead azide.

Lead mannite.

Lead mononitroresorcinate.

Lead picrate.

Lead salts, explosive.

Lead styphnate [styphnate of lead, lead trinitroresorcinate].

Liquid nitrated polyol and trimethylolethane.

Liquid oxygen explosives.

M

Magnesium ophorite explosives.

Mannitol hexanitrate.

MDNP [methyl 4,4-dinitropentanoate].

MEAN [monoethanolamine nitrate].

Mercuric fulminate.

Mercury oxalate.

Mercury tartrate.

Metriol trinitrate.

Minol-2 [40% TNT, 40% ammonium nitrate, 20% aluminum].

MMAN [monomethylamine nitrate]; methylamine nitrate.

Mononitrotoluene-nitroglycerin mixture.

Monopropellants.

N

NIBTN [nitroisobutametriol trinitrate].

Nitrate explosive mixtures.

Nitrate sensitized with gelled nitroparaffin.

Nitrated carbohydrate explosive.

Nitrated glucoside explosive.

Nitrated polyhydric alcohol explosives.

Nitric acid and a nitro aromatic compound explosive.

Nitric acid and carboxylic fuel explosive.

Nitric acid explosive mixtures.

Nitro aromatic explosive mixtures.

Nitro compounds of furane explosive mixtures.

Nitrocellulose explosive.

Nitroderivative of urea explosive mixture.

Nitrogelatin explosive.

Nitrogen trichloride.

Nitrogen tri-iodide.

Nitroglycerine [NG, RNG, nitro, glyceryl trinitrate, trinitroglycerine].

Nitroglycide.

Nitroglycol [ethylene glycol dinitrate, EGDN].

Nitroguanidine explosives.

Nitronium perchlorate propellant mixtures.

Nitroparaffins Explosive Grade and ammonium nitrate mixtures.

Nitrostarch.

Nitro-substituted carboxylic acids.

Nitrourea.

O

Octogen [HMX].

Octol [75 percent HMX, 25 percent TNT].

Organic amine nitrates.

Organic nitramines.

P

PBX [plastic bonded explosives].

Pellet powder.

Penthrinite composition.

Pentolite.

Perchlorate explosive mixtures.

Peroxide based explosive mixtures.

PETN [nitropentaerythrite, pentaerythrite tetranitrate, pentaerythritol tetranitrate].

Picramic acid and its salts.

Picramide.

Picrate explosives.

Picrate of potassium explosive mixtures.

Picratol.

Picric acid (manufactured as an explosive).

Picryl chloride.

Picryl fluoride.

PLX [95% nitromethane, 5% ethylenediamine].

Polynitro aliphatic compounds.

Polyolpolynitrate-nitrocellulose explosive gels.

Potassium chlorate and lead sulfocyanate explosive.

Potassium nitrate explosive mixtures.

Potassium nitroaminotetrazole.

Pyrotechnic compositions.

Pyrotechnic fuses.

PYX [2,6-bis(picrylamino)] 3,5-dinitropyridine.

R

RDX [cyclonite, hexogen, T4, cyclo-1,3,5,-trimethylene-2,4,6,-trinitramine; hexahydro-1,3,5-trinitro-S-triazine].

S

Safety fuse.

Salts of organic amino sulfonic acid explosive mixture.

Salutes (bulk).

Silver acetylide.

Silver azide.

Silver fulminate.

Silver oxalate explosive mixtures.

Silver styphnate.

Silver tartrate explosive mixtures.

Silver tetrazene.

Slurried explosive mixtures of water, inorganic oxidizing salt, gelling agent, fuel, and sensitizer (cap sensitive).

Smokeless powder.

Sodatol.

Sodium amatol.

Sodium azide explosive mixture.

Sodium dinitro-ortho-cresolate.

Sodium nitrate explosive mixtures.

Sodium nitrate-potassium nitrate explosive mixture.

Sodium picramate.

Special fireworks.

Squibs.

Styphnic acid explosives.

T

Tacot [tetranitro-2,3,5,6-dibenzo-1,3a,4,6a tetrazapentalene].

TATB [triaminotrinitrobenzene].

TATP [triacetonetriperoxide].

TEGDN [triethylene glycol dinitrate].

Tetranitrocarbazole.

Tetrazene [tetracene, tetrazine, 1(5-tetrazolyl)-4-guanyl tetrazene hydrate].

Tetrazole explosives.

Tetryl [2,4,6 tetranitro-N-methylaniline].

Tetrytol.

Thickened inorganic oxidizer salt slurried explosive mixture.

TMETN [trimethylolethane trinitrate].

TNEF [trinitroethyl formal].

TNEOC [trinitroethylorthocarbonate].

TNEOF [trinitroethylorthoformate].

TNT [trinitrotoluene, trotyl, trilite, triton].

Torpex.

Tridite.

Trimethylol ethyl methane trinitrate composition.

Trimethylolthane trinitrate-nitrocellulose.

Trimonite.

Trinitroanisole.

Trinitrobenzene.

Trinitrobenzoic acid.

Trinitrocresol.

Trinitro-meta-cresol.

Trinitronaphthalene.

Trinitrophenetol.

Trinitrophloroglucinol.

Trinitroresorcinol.

Tritonal.

U

Urea nitrate.

W

Water-bearing explosives having salts of oxidizing acids and nitrogen bases, sulfates, or sulfamates (cap sensitive).

Water-in-oil emulsion explosive compositions.

X

Xanthamonas hydrophilic colloid explosive mixture.

Dated: September 26, 2014.
B. Todd Jones,
Director.

[FR Doc. 2014-23870 Filed 10-6-14; 8:45 am]

BILLING CODE 4410-FY-P